SOCIAL SECURITY ADMINISTRATION

Agency Information Collection Activities: Proposed Request and Comment Request

The Social Security Administration (SSA) publishes a list of information collection packages requiring clearance by the Office of Management and Budget (OMB) in compliance with Public Law 104-13, the Paperwork Reduction Act (PRA) of 1995, effective October 1, 1995. This notice includes revisions of OMB-approved information collections and an information collection in use without an OMB number.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget, Attn: Desk Officer for SSA. Fax: 202-395-6974. E-mail address: OIRA_Submission@omb.eop.gov.

(SSA)

Social Security Administration, DCBFM, Attn: Reports Clearance Officer, 1333 Annex Building, 6401 Security Blvd., Baltimore, MD 21235. Fax: 410-965-6400. E-mail address: OPLM.RCO@ssa.gov.

I. The information collections below are pending at SSA. SSA will submit them to OMB within 60 days from the date of this notice. To be sure we consider your comments, we must receive them no later than November 8, 2011. Individuals can obtain copies of the collection instruments by calling the SSA Reports Clearance Officer at 410-965-8783 or by writing to the above e-mail address.

1. Application for Access to SSA Systems—20 CFR 401.45—0960-NEW. SSA uses Form SSA-120 to allow authorized users to apply for access to SSA's information systems. SSA requires supervisory approval and local or component Security Officer review prior to granting access. The respondents are SSA employees and non-Federal employees (contractors) who require access to SSA systems to fulfill their jobs. Note: Because SSA employees are Federal workers exempt from the requirements of the PRA, the burden below is only for SSA contractors.

Type of Request: Information collection in use without an OMB number.

Number of Respondents: 4,313.

Frequency of Response: 1.

Average Burden per Response: 2 minutes.

Estimated Annual Burden: 144 hours.

2. Marital Relationship Questionnaire—20 CFR 416.1826—0960-0460. SSA uses Form SSA-4178 to determine if unrelated individuals of the opposite sex who live together are misrepresenting themselves as husband and wife. SSA needs this information to determine whether we are making correct payments to couples and individuals applying for or currently receiving Supplemental Security Income (SSI) payments. The respondents are applicants for and recipients of SSI payments.

Type of Request: Revision of an OMB-approved information collection.

Number of Respondents: 5,100.

Frequency of Response: 1.

Average Burden per Response: 5 minutes.

Estimated Annual Burden: 425 hours.

3. General Request for Social Security Records—eFOIA—20 CFR 402.130—0960-0716. Interested members of the public use this electronic request to ask SSA for information under the Freedom of Information Act (FOIA). SSA also uses this information to track the number and type of requests, fees charged, payment amounts, and whether SSA responded to public requests within the required 20 days. Respondents are members of the public including individuals, institutions, or agencies requesting information or documents under FOIA.

Type of Request: Revision of an OMB-approved information collection.

Number of Respondents: 5,000.

Frequency of Response: 1.

Average Burden per Response: 3 minutes.

Estimated Annual Burden: 250 hours.

II. SSA submitted the information collections below to OMB for clearance. Your comments regarding the information collections would be most useful if OMB and SSA receive them within 30 days from the date of this publication. To be sure we consider your comments, we must receive them no later than October 11, 2011. Individuals can obtain copies of the OMB clearance packages by calling the SSA Reports Clearance Officer at 410-965-8783 or by writing to the above e-mail address.

1. Application for Benefits under a U.S. International Social Security Agreement—20 CFR 404.1925—0960-0448. Section 233(a) of the Social Security Act authorizes the President to broker international Social Security agreements (totalization agreements) between the United States and foreign countries. SSA collects information using Form SSA-2490-BK to determine entitlement to Social Security benefits from the United States, or from a country that enters into a totalization agreement with the United States. The respondents are individuals applying for Old Age, Survivors, and Disability Insurance benefits from the United States or from a totalization agreement country.

Type of Request: Revision of an OMB-approved information collection.

Form No. | Number of respondents | Frequency of response | Average burden per response (minutes) | Total annual burden (hours)
SSA-2490-BK (Modernized Claims System) | 14,000 | 1 | 30 | 7,000
SSA-2490-BK (paper) | 2,000 | 1 | 30 | 1,000
Totals | 16,000 |  |  | 8,000

2. Plan for Achieving Self-Support (PASS)—20 CFR 416.110(e), 416.1180-1182, 416.1225-1227—0960-0559. The SSI program encourages recipients to return to work. One of the program objectives is to provide incentives and opportunities that help recipients to do this. The PASS provision allows individuals to use available income and resources (such as business equipment, education, and specialized training) to enter (or re-enter) the workforce and become self-supporting. In turn, SSA does not count the income or resources recipients use to fund a PASS when determining an individual's SSI eligibility and payment amount. An SSI recipient who wants to use available income and resources to obtain education or training to become self-supporting completes the SSA-545. SSA uses the information from the SSA-545 to evaluate the recipient's PASS and to determine eligibility under the provisions of the SSI program. The respondents are SSI recipients who are blind or disabled and want to develop a plan to work.

Note: This is a correction notice. SSA published this information collection as an extension on June 15, 2011 at 76 FR 35067. Since we are revising the Privacy Act Statement, this is now a revision of an OMB-approved information collection.

Type of Request: Revision of an OMB-approved information collection.

Number of Respondents: 7,000.

Frequency of Response: 1.

Average Burden per Response: 2 hours.

Estimated Annual Burden: 14,000 hours.

3. Medical Permit Parking Application—41 CFR 101-20.104-2—0960-0624. SSA employees and contractors with a qualifying medical condition who park at SSA-owned and leased facilities may receive a medical parking permit. SSA uses three forms for this program: (1) SSA-3192, the Physician's Report (the applicant's physician completes this to verify the medical condition); (2) SSA-3193, the Application and Statement (the person seeking the permit completes this when first applying for the medical parking space); and (3) SSA-3194, Renewal Certification (medical parking permit holders complete this to verify their continued need for the permit). The respondents are SSA employees and contractors seeking medical parking permits and their physicians. Note: Because SSA employees are Federal workers exempt from the requirements of the Paperwork Reduction Act, the burden below is only for SSA contractors and physicians (of both SSA employees and contractors).

Type of Request: Revision to an OMB-approved information collection.

| Number of respondents | Frequency of response | Average burden per response (minutes) | Estimated annual burden (hours)
SSA-3192 | 75 | 1 | 90 | 113
SSA-3193 | 400 | 1 | 30 | 200
SSA-3194 | 500 | 1 | 5 | 42
Totals | 975 |  |  | 355

Dated: September 6, 2011.
Faye Lipsky,
Reports Clearance Officer, Center for Reports Clearance, Social Security Administration.

[FR Doc. 2011-23061 Filed 9-8-11; 8:45 am]

BILLING CODE 4191-02-P